DEPARTMENT OF STATE

[Public Notice 12048]

Amendment of the Designation of Qari Amjad (and Other Aliases) as a Specially Designated Global Terrorist

Based upon a review of the administrative record assembled in this matter, and in consultation with the Attorney General and the Secretary of the Treasury, I have concluded that there is a sufficient factual basis to find that Qari Amjad uses the additional aliases Mufti Hazrat Deroji and Mufti Hazrat Ali. I also conclude that Mufti Hazrat Deroji is the primary name for this person.

Therefore, pursuant to Section 1(a)(ii) of E.O. 13224, I hereby amend the designation of Qari Amjad as a Specially Designated Global Terrorist to include the following new aliases: Mufti Hazrat Deroji and Mufti Hazrat Ali.

This notice shall be published in the Federal Register.

Dated: March 25, 2023.
Antony J. Blinken,
Secretary of State.

[FR Doc. 2023-08208 Filed 4-18-23; 8:45 am]

BILLING CODE 4710-AD-P